DEPARTMENT OF TRANSPORTATION

Federal Transit Administration

Preparation of an Environmental Impact Statement for the Austin Light Rail Project in Austin, Texas

AGENCY: Federal Transit Administration (FTA), DOT.

ACTION: Notice of intent to prepare an environmental impact statement.

SUMMARY: The Federal Transit Administration (FTA), as lead Federal agency, and the Austin Transit Partnership (ATP), as local project sponsor and joint lead agency (collectively, the Agencies), issue this notice to advise the public that they intend to prepare an environmental impact statement (EIS) for Phase 1 of the Austin Light Rail Project (the Project) in Austin, Texas (City) pursuant to the National Environmental Policy Act (NEPA). The Project is a proposed 9.8-mile light rail transit (LRT) branched line, including 15 stations, from points north, south, and east of downtown Austin, as well as an operations and maintenance facility (OMF), maintenance of way (MOW) shops, and associated LRT equipment storage functions. FTA has determined that the Project is sufficiently developed to allow for meaningful public comment and requires an EIS.

DATES: Comments related to the NEPA review of the Project must be received on or before March 4, 2024.

ADDRESSES: Comments on the scope of the EIS should be sent to: Austin Transit Partnership, 203 Colorado St., Austin, TX 78701 or via email at input@atptx.org.

FOR FURTHER INFORMATION CONTACT: For FTA: Mr. Terence Plaskon, Federal Transit Administration, Region VI, 819 Taylor Street, Fort Worth, TX 76102, at (817) 978-0573 or terence.plaskon@dot.gov. For ATP: Mr. Deron Lozano, Austin Transit Partnership, 203 Colorado Street, Austin, TX 78701, at (512) 923-3257 or deron.lozano@atptx.org.

SUPPLEMENTARY INFORMATION: The Agencies will prepare the EIS in accordance with NEPA and its implementing regulations. The EIS will evaluate two alternatives: a No Build Alternative and a Build Alternative. After circulation of the draft EIS (DEIS) and consideration of comments received, FTA intends to issue a combined final EIS (FEIS)/Record of Decision (ROD) document pursuant to 23 U.S.C. 139(n)(2), unless statutory criteria preclude issuance of a combined document (i.e., the FEIS makes substantial changes to the proposed action that are relevant to environmental or safety concerns or there is a significant new circumstance or information relevant to environmental concerns that affect the proposed action or its impacts). FTA is currently evaluating the Project's eligibility for discretionary Federal funding under FTA's Capital Investment Grants program.

I. Purpose and Need for the Proposed Action

The Project is part of the Project Connect Long-Term Vision Plan (Project Connect). Project Connect includes high-capacity transit (HCT) corridors and is an integral part of the Austin Strategic Mobility Plan that was approved by the Austin City Council in 2019. In 2020, the Capital Area Metropolitan Planning Organization adopted its 2045 Regional Transportation Plan which included HCT corridors as priority transit capital investments. On November 3, 2020, City of Austin voters approved a ballot measure (Proposition A) to increase the City's property tax rate to provide a dedicated local funding source for Project Connect, including LRT. ATP, an independent local government corporation, is responsible for the financing, design, and construction of the Project. Respective obligations and roles related to operation and maintenance of the Project, including future funding obligations of ATP, will be detailed in a binding implementation agreement between ATP, the City, and the Capital Metropolitan Transportation Authority (CapMetro), the local transportation authority.

In 2020, FTA and CapMetro completed two Planning and Environmental Linkages (PEL) studies following Federal guidance that documented the alternatives analysis, the purpose and needs, and public outreach which led to the selection of a locally preferred alternative for an LRT system. The PEL process resulted in broad public support of the purpose and needs and the alternatives analysis. However, as the initial environmental review process unfolded and design work for LRT advanced, the estimated project construction costs increased. The primary cost drivers were increasing real estate costs, inflation, supply chain cost escalations, and desired scope refinements. Due to this material change in circumstances, it became clear the LRT alignment and design warranted adjustment to ensure ATP could deliver a project that was fiscally feasible and responsive to the needs of the public. In July 2022, taking the original PEL studies and cost escalation factors into account, ATP commenced community-driven planning efforts to develop a viable and affordable alternative LRT implementation plan that addresses the purpose and need of providing quality and reliable HCT to the Austin metropolitan area. On June 6, 2023, the City, ATP, and CapMetro unanimously approved the advancement of the Project into the next phase of implementation.

The purpose of the Project is to meet growing corridor travel demand with a reliable, safe, cost-effective, time competitive, sustainable, and equitable LRT system. The lack of transportation options and limited roadway capacity to accommodate growth in central Texas may hinder the continued vitality and economic health of the City and surrounding areas in the future. Inadequate transit access coupled with rising travel demand have resulted in longer travel times, decreased mobility, and additional travel costs for residents and businesses. The Project is needed to:

• increase transportation network capacity to meet existing travel demand;

• sustainably support the Austin area's population and employment growth;

• improve transit access between affordable housing and jobs; and

• support growth of and connectivity to regional activity centers designated in local land use plans.

II. Description of Proposed Action and Alternatives

The EIS will evaluate two alternatives: a No Build Alternative and a Build Alternative. The No Build, or No Action, Alternative includes existing and committed improvements to the regional transportation network, not including the Project, that are expected to be operational by 2045. The No Build Alternative is included as a benchmark against which the impacts of the Build Alternative can be compared. The Build Alternative is a 9.8-mile LRT branched line (see the project website at https://www.atptx.org/about/light-rail/). Beginning at the intersection of Guadalupe Street and 38th Street, the in-street, LRT-dedicated, double-tracked alignment would extend south past the University of Texas and the Texas State Capitol. At the intersection of Guadalupe and 3rd Streets, the alignment would extend east on 3rd Street, cross Congress Avenue, and connect to Trinity Street. The alignment would continue south on Trinity Street and cross Lady Bird Lake on a new LRT-dedicated bridge. On the south shore of Lady Bird Lake, the alignment would connect to and split on East Riverside Drive, where it would split into two branches. The western branch of the split would cross East Bouldin Creek and extend south on South Congress Avenue with a terminus at the intersection of South Congress Avenue and Oltorf Street. The eastern branch of the split would continue southeast along East Riverside Drive with a terminus just west of SH-71 at the Yellow Jacket station.

An OMF would be located in the vicinity of the US-183/SH-71 interchange near Airport Commerce Drive in a light-industrial use area. The proposed site would include space for administration, operations and maintenance staff, an LRT control center, and light rail vehicle (LRV) maintenance. The OMF would also serve as an LRV storage yard with the capacity to support both LRV operations and fleet storage. The OMF would include MOW shops and associated LRT equipment storage functions.

III. Summary of Expected Impacts

The Agencies will evaluate the No Build and Build Alternatives for potential direct, indirect, and cumulative impacts (including benefits) to the natural, built, and social environments. Resources to be evaluated and potential impact areas include, but are not limited to, transportation, land use, socioeconomics and economic development, parklands and recreational facilities, neighborhoods and community facilities, environmental justice, noise and vibration, hazardous materials, ecosystems, water resources, residential and commercial displacements and relocations, historic and archaeological resources, visual quality, vegetation, air quality (including greenhouse gas emissions), and energy. The potential effects of the construction and operation of the Project on these resources will be evaluated for the short-term construction period and long-term operation of each alternative. Measures to avoid, minimize, or mitigate potential adverse impacts will be evaluated and proposed.

IV. Anticipated Permits and Other Authorizations

The Agencies anticipate that required permits and other authorizations may include:

• U.S. Department of Transportation section 4(f) determination;

• U.S. Department of Interior approval under section 6(f) of the Land and Water Conservation Act;

• U.S. Army Corps of Engineers approval under section 404 of the Clean Water Act and/or section 10 of the River and Harbors Act.

• Memorandum of Agreement with the State Historic Preservation Officer under section 106 of the National Historic Preservation Act; and

V. Schedule for Decision-Making Process

Below is a tentative schedule of major milestones for the EIS:

• Scoping Period: January 19, 2024 to March 4, 2024.

• DEIS Release, Public Hearing, and DEIS Public Comment Period: Fall 2024.

• FEIS/ROD: Fall 2025.

As noted in the tentative schedule, the Agencies intend to complete the EIS for the Project within two years, measured from the date of the publication of this notice to the date the ROD is signed. The Agencies will accept public comments on the scope of the EIS at https://www.atptx.org/ until March 4, 2024. The Environmental Protection Agency will publish a notice of availability of the DEIS in the Federal Register and via local media outlets. ATP expects the DEIS will be available for a minimum of 45 days for the public comment period by Fall 2024. The DEIS will be distributed electronically and made available for public and agency review and comment prior to a public hearing. The Agencies will consider substantive comments timely submitted during the public comment period and then anticipate preparing a combined FEIS/ROD by Fall 2025. The FEIS/ROD will identify the NEPA preferred alternative and any necessary mitigation commitments. The Agencies expect that all Federal environmental authorization decisions for the construction of the Project will be completed within a reasonable period following issuance of the FEIS/ROD.

Notices of public meetings, including hearings, have been, and will continue to be, given through a variety of media providing the time and place of the meeting along with other relevant information. Meeting date, time, and location information can be found on the Project website, Meetings and Events page, at https://www.atptx.org/. Public meeting locations will comply with the Americans with Disabilities Act. Persons needing special accommodations should contact Ms. Sophie Petkus at sophie.petkus@atptx.org or (512) 917-2492.

VI. Request for Identification of Potential Alternatives, Information, and Analysis

The Agencies invite all State, Tribal, local governments, and the public to comment on potential alternatives, information, impacts, and analyses to be considered in the EIS, as well as any other relevant information, studies, or analyses with respect to the proposed agency action.

Gail Lyssy,
Regional Administrator, FTA Region VI.

[FR Doc. 2024-00963 Filed 1-18-24; 8:45 am]

BILLING CODE 4910-57-P